DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration, Wage and Hour Division (WHD) is soliciting comments concerning the following proposed collection: Housing Terms and Conditions. A copy of the proposed information collection request can be obtained by contacting the office listed below in the addressee section of this Notice.

DATES: Written comments must be submitted to the office listed in the addressee section below on or before July 12, 2002.

ADDRESSES: Ms. Patricia A. Forkel, U.S. Department of Labor, 200 Constitution Ave., NW., Room S-3201, Washington, DC 20210, telephone (202) 693-0339, fax (202) 693-1451, EMail pforkel@fenix2.dol-esa.gov. Please use only one method of transmission for comments (mail, fax, or EMail).

SUPPLEMENTARY INFORMATION:

I. Background

The Wage and Hour Division (WHD) administers the Migrant and Seasonal Agricultural Protection Act (MSPA). Section 201(c) of MSPA, 29 U.S.C. 1801 et seq., requires that any farm labor contractor, agricultural employer or agricultural association that provides housing to any migrant agricultural worker, post in a conspicuous place or present to such worker a statement of the terms and conditions, if any, of occupancy of such housing. In addition, section 201(g) requires that such information be provided in English, or as necessary and reasonable, in a language common to the workers and that the Department of Labor make forms available to provide such information. Section 500.75(f) and (g) of Regulations, 29 CFR Part 500, of MSPA, sets forth the terms of occupancy of housing which are to be posted or given in a written statement to the worker. Section 500.1(i)(2) provides for optional Form WH-521, which may be used to satisfy sections 201(c) and 201(g) of MSPA. Optional Form WH-521 is printed in English/Spanish. Form WH-521 in other languages is not available at this time. The information collection is currently approved by the Office of Management and Budget (OMB) for use through September 2002.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks an extension of approval of optional Form WH-521, which may be used to satisfy sections 201(c) and 201(g) of MSPA. Form WH-521 is an optional form which a farm labor contractor, agricultural employer, and agricultural association can post or present to a migrant agricultural worker listing the terms and conditions for occupancy of housing. While use of the form is optional, disclosure of the information is required by MSPA. The optional form completed by the employer provides an easy method for the employer to satisfy the disclosure requirements. Completion of the form and disclosure also provides the migrant agricultural workers with information enabling them to understand the conditions under which they may occupy housing provided by farm labor contractors, agricultural employers or agricultural associations. There are no changes to this form since the last OMB approval.

Type of Review: Extension.

Agency: Employment Standards Administration.

Titles: Housing Terms and Conditions.

OMB Number: 1215-0146.

Agency Numbers: Not Applicable.

Affected Public: Businesses or other for-profit; individuals or households; Farms.

Total Respondents/Responses: 1,300.

Total Hours: 650.

Total Burden Cost (capital/startup): $0.

Total Burden Cost (operation/maintenance): $0.

Comments submitted in response to this notice will be summarized and/or included in the request for Office of Management and Budget approval of the information collection request; they will also become a matter of public record.

Dated: May 7, 2002.
Margaret J. Sherrill,
Chief, Branch of Management Review and Internal Control, Division of Financial Management, Office of Management, Administration and Planning, Employment Standards Administration.

[FR Doc. 02-11879 Filed 5-10-02; 8:45 am]

BILLING CODE 4510-27-P